DEPARTMENT OF HOUSING AND URBAN DEVELOPMENT

[Docket No. FR-5681-N-19]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Brenda Carignan, Department of Agriculture, Reporters Building, 300 7th Street SW., Room 337, Washington, DC 20024, (202) 401-0787; Coast Guard: Commandant, United States Coast Guard, Attn: Jennifer Stomber, 2100 Second St. SW., Stop 7901, Washington, DC 20593-0001; (202) 475-5609; NASA: Mr. Frank T. Bellinger, Facilities Engineering Division, National Aeronautics & Space Administration, Code JX, Washington, DC 20546, (202) 358-1124; (This is not toll-free numbers).

Dated: May 2, 2013.
Mark Johnston,
Deputy Assistant Secretary for Special Needs.

TITLE V, FEDERAL SURPLUS PROPERTY PROGRAM FEDERAL REGISTER REPORT FOR 05/10/2013

Suitable/Available Properties

Building

California

Laufman Wildlife Office

446525 Milford Grade Rd.

Milford CA 96121

Landholding Agency: Agriculture

Property Number: 15201320003

Status: Unutilized

Comments: Off-site removal; 1,285 sf.; office; 60 months vacant; very poor conditions; repairs a must; rodents w/Hanta virus presence

Water Treatment Building

446525 Milford Grade Rd.

Milford CA 96121

Landholding Agency: Agriculture

Property Number: 15201320005

Status: Excess

Comments: Off-site removal; 216 sf.; utility water treatment; 240 months vacant; very poor conditions; major repairs needed; Hanta virus presence

Laufman Paper Storage

446525 Milford Grade Rd.

Milford CA 96121

Landholding Agency: Agriculture

Property Number: 15201320006

Status: Unutilized

Comments: Off-site removal; 85 sf.; storage; 240 months vacant; very poor conditions; rodents w/Hanta virus

Office

446525 Milford Grade Rd.

Milford CA 96121

Landholding Agency: Agriculture

Property Number: 15201320008

Status: Unutilized

Comments: Off-site removal; 2,057 sf.; office; 36 months vacant; very poor conditions; repairs a must; rodents w/Hanta virus presence

Laufman Engine Bay Warehouse

446525 Milford Grade Rd.

Milford CA 96121

Landholding Agency: Agriculture

Property Number: 15201320009

Status: Unutilized

Comments: Off-site removal; 2,801 sf.; storage; 60 months vacant; very poor conditions; repairs a must; rodents w/Hanta virus

Laufman Flammable Storage

446525 Milford Grade Rd.

Milford CA 96121

Landholding Agency: Agriculture

Property Number: 15201320010

Status: Excess

Comments: Off-site removal; 36 months vacant; fire station; very poor conditions; major repairs needed; rodents w/Hanta virus presence

Laufman Barracks

446525 Milford Grade Rd.

Milford CA 96121

Landholding Agency: Agriculture

Property Number: 15201320011

Status: Unutilized

Comments: Off-site removal; 2,112 sf.; barracks; 60 months vacant; very poor conditions; need major repairs; rodents w/Hanta virus presence

Laufman Warehouse

446525 Milford Grade Rd.

Milford CA 96121

Landholding Agency: Agriculture

Property Number: 15201320012

Status: Unutilized

Comments: Off-site removal; 1,836 sf.; storage; 60 months vacant; lead-based paint; very poor conditions; unidentified chemical spills; rodents w/Hanta virus presence

Laufman Fuelwood Storage

446525 Milford Grade Rd.

Milford CA 96121

Landholding Agency: Agriculture

Property Number: 15201320013

Status: Unutilized

Comments: Off-site removal; 176 sf.; storage; dilapidated; 60 months vacant; major repairs needed; rodents w/Hanta virus presence

Laupman Timber Office

446525 Milford Grade Rd.

Milford CA 96121

Landholding Agency: Agriculture

Property Number: 15201320014

Status: Excess

Comments: Off-site removal; 1,028 sf.; office; 60 months vacant; deteriorated; no roof; repairs a must; rodents w/Hanta virus presence

Shed

446525 Milford Grade Rd.

Milford CA 96121

Landholding Agency: Agriculture

Property Number: 15201320015

Status: Unutilized

Comments: Off-site removal; 80 sf.; shed; 120 months vacant; very poor conditions; rodents w/Hanta virus presence

Laufman Fire Office

446525 Milford Grade Rd.

Milford CA 96121

Landholding Agency: Agriculture

Property Number: 15201320016

Status: Unutilized

Comments: Off-site removal; 700 sf.; storage; 60 months vacant; very poor conditions; lead-based paint; repairs a must; rodents w/Hanta virus presence

Laufman Silvilcultupe

446525 Milford Grade Rd.

Milford CA 96121

Landholding Agency: Agriculture

Property Number: 15201320017

Status: Excess

Comments: Off-site removal; 1,478 sf.; 60 months vacant; very poor conditions; repairs a must; rodents w/Hanta virus presence

Laufman Upper Pumphouse

446525 Milford Grade Rd.

Milford CA 96121

Landholding Agency: Agriculture

Property Number: 15201320019

Status: Unutilized

Comments: Off-site removal; 96 sf.; utility; 60 months vacant; very poor conditions; rodents w/Hanta virus presence

Unsuitable Properties

Building

Ohio

2 Buildings

Glenn Research Center

Rye Beach Island OH 44839

Landholding Agency: NASA

Property Number: 71201320001

Status: Unutilized

Directions: Facilities 8132 and 8170

Comments: w/in secured area; public access denied & no alternative method to gain access without compromising nat'l security

Reasons: Secured Area

Tennessee

U.S. Coast Guard Paris Landing

700 Coast Guard Rd.

Buchanan TN 38222

Landholding Agency: Coast Guard

Property Number: 88201320003

Status: Excess

Comments: Public access denied & no alternative method to gain access w/out compromising nat'l security

Reasons: Secured Area

[FR Doc. 2013-10865 Filed 5-9-13; 8:45 am]

BILLING CODE 4210-67-P